DEPARTMENT OF AGRICULTURE

Food Safety and Inspection Service

[Docket No. 03-035N]

National Advisory Committee on Meat and Poultry Inspection; Nomination for Membership

AGENCY: Food Safety and Inspection Service, USDA.

ACTION: Notice.

SUMMARY: The Department of Agriculture (USDA) is soliciting nominations for membership on the National Advisory Committee on Meat and Poultry Inspection (NACMPI). This notice will be used to fill one vacancy on the Committee. The full Committee consists of 16-18 members, and each person selected is expected to serve a 2-year term. The term for the individual selected to fill this vacancy will expire with the current Committee in March 2005.

DATES: The names of the nominees and their typed curricula vitae or resumes must be postmarked no later than November 19, 2003. Applications are available on-line at http://www.fsis.usda.gov/OPPDE/NACMPI/Nominations.htm.

ADDRESSES: Nominating materials should be submitted to Dr. Garry L. McKee, Administrator, Food Safety and Inspection Service, USDA, Room 615 Cotton Annex Building, 300 12th Street, SW, Washington, DC 20250-3700.

FOR FURTHER INFORMATION CONTACT: Ms. Sonya L. West, Meat and Poultry Advisory Committee Staff; telephone (202) 720-2561; Fax (202) 205-0157; e-mail: sonya.west@fsis.usda.gov.

SUPPLEMENTARY INFORMATION: USDA is seeking nominees for membership on the National Advisory Committee on Meat and Poultry Inspection. The Committee provides advice and recommendations to the Secretary on the meat and poultry inspection programs, pursuant to sections 7(c), 24, 205, 301(a)(3), 301(a)(4), and 301(c) of the Federal Meat Inspection Act (21 U.S.C. 607(c), 624, 645, 661(a)(3), 661(a)(4)), and 661(c) and the sections 5(a)(3), 5(a)(4), 5(c), 8(b), and 11(e) of the Poultry Products Inspection Act (21 U.S.C. 454(a)(3), 454(a)(4), 454(c), 457(b), and 460(e)). Nominations for membership are generally sought from persons representing producers; processors; exporters and importers of meat and poultry products; academia; Federal and State government officials; and consumers. Due to the resignation of a member appointed in March 2003, we are currently seeking a consumer representative at this time in order to maintain the balance of representation in all areas of interest on the Committee. This appointee will serve out the remainder of this term which ends in March 2005.

Appointments to the Committee will be made by the Secretary. To ensure that recommendations of the Committee take into account the needs of the diverse groups served by the Department, membership should include, to the extent practicable, persons with demonstrated ability to represent minorities, women, and persons with disabilities. It is anticipated that the Committee will meet at least twice annually.

Background

On April 15, 2003, the Secretary of Agriculture renewed the charter for the NACMPI. The Administrator of FSIS is the Chairperson of the Committee. The current members of the NACMPI are: Ms. Deanna Baldwin, Maryland Department of Agriculture; Dr. Gladys Bayse, Spelman College; Dr. David Carpenter, Southern Illinois University; Dr. James Denton, University of Arkansas; Dr. Kevin Elfering, Minnesota Department of Agriculture; Ms. Sandra Eskin, American Association of Retired Persons; Mr. Michael Govro, Oregon Department of Agriculture; Dr. Joseph Harris, Southwest Meat Association; Dr. Jill Hollingsworth, Food Marketing Institute; Dr. Alice Johnson, National Turkey Federation; Mr. Michael Kowalcyk, Safe Tables Our Priority; Dr. Irene Leech, Virginia Citizens Consumer Council; Mr. Charles Link, Cargill Meats; Dr. Catherine Logue, North Dakota State University; and Mr. Mark Schad, Schad Meats.

Additional Public Notification

Public awareness of all segments of rulemaking and policy development is important. Consequently, in an effort to ensure that minorities, women, and persons with disabilities are aware of the notice, FSIS will announce it and make copies of this Federal Register publication available through the FSIS Constituent Update. FSIS provides a weekly Constituent Update, which is communicated via Listserv, a free e-mail Subscription service. In addition, the update is used to provide information regarding FSIS policies, procedures, regulations, Federal Register Notices, FSIS public meetings, recalls, and any other types of information that could affect or would be of interest to our constituents/stakeholders. The constituent Listserv consists of industry, trade, and farm groups, consumer interest groups, allied health professionals, scientific professionals, and other individuals that have requested to be included. Through the Listserv and Web page, FSIS is able to provide information to a much broader, more diverse audience.

For more information contact the Congressional and Public Affairs Office, at (202) 720-9113. To be added to the free e-mail subscription service (Listserv) go to the “Constituent Update” page on the Internet at: http://www.fsis.usda.gov/oa/update/subscribe.asp. Click on the “Subscribe to the Constituent Update Listserv” link, then fill out and submit the form.

Done in Washington, DC, on October 14, 2003.
Garry L. McKee,
Administrator.

[FR Doc. 03-26387 Filed 10-17-03; 8:45 am]

BILLING CODE 3410-DM-P